SMALL BUSINESS ADMINISTRATION

Region VII Regulatory Fairness Board

AGENCY: U.S. Small Business Administration, Office of the National Ombudsman.

ACTION: Notice of Federal Regulatory Fairness Hearing.

SUMMARY: The SBA is issuing this notice to advise the public of a Federal Regulatory Fairness Hearing in Kansas City, MO. The hearing is open to the public however, advance notice of attendance is requested.

DATES: The hearing will be held on Tuesday, July 22, 2008 from 1:30 p.m. to 4 p.m. Central Standard Time.

ADDRESS: The hearing will be held at the Kansas City District Office, U.S. Small Business Administration, 1000 Walnut, Suite 500 (Fifth Floor), Kansas, City, MO 64106.

SUPPLEMENTARY INFORMATION: Pursuant to section 10(a)(2) of the Federal Advisory Committee Act (5 U.S.C., Appendix 2), SBA Regional Regulatory Fairness Board and the Office of the National Ombudsman hold Regulatory Fairness hearings across the nation. Issues addressed at these hearings will be directed to the appropriate Federal regulatory agency for a high-level review of fairness of the enforcement action.

The purpose of the hearing is for Business Organizations, Trade Associations, Chambers of Commerce and related organizations serving small business concerns to report experiences regarding unfair or excessive Federal regulatory enforcement issues affecting their members.

FOR FURTHER INFORMATION CONTACT: Gary Cook, District Director, SBA, Kansas City District Office, 1000 Walnut, Suite 500, Kansas City, MO 64106, telephone: (816) 426-4900, fax: (202) 481-2024, e-mail: Gary.cook@sba.gov. Anyone wishing to testify and/or make a presentation to the Regulatory Fairness Board must contact Gary Cook by July 21, by fax or e-mail in order to be placed on the agenda.

Additionally, if you need accommodations because of a disability or require additional information, please contact Gary Cook at the information above.

For more information, please visit our Web site at http://www.sba.gov/ombudsman.

Cherylyn Lebon,
SBA Committee Management Officer.

[FR Doc. E8-15391 Filed 7-7-08; 8:45 am]

BILLING CODE 8025-01-P